DEPARTMENT OF COMMERCE

International Trade Administration

[C-570-146]

Certain Freight Rail Couplers and Parts Thereof From the People's Republic of China: Postponement of Preliminary Determination

AGENCY: Enforcement and Compliance, International Trade Administration, Department of Commerce.

DATES: Applicable December 2, 2022.

FOR FURTHER INFORMATION CONTACT: Terre Keaton Stefanova or Paul Gill, AD/CVD Operations Office II, Enforcement and Compliance, International Trade Administration, U.S. Department of Commerce, 1401 Constitution Avenue NW, Washington, DC 20230; telephone: (202) 482-1280 or (202) 482-5673, respectively.

SUPPLEMENTARY INFORMATION:

Background

On October 18, 2022, the U.S. Department of Commerce (Commerce) initiated a countervailing duty (CVD) investigation of imports of certain freight rail couplers and parts thereof from the People's Republic of China.¹ Currently, the preliminary determination is due no later than December 22, 2022.

¹ See Certain Freight Rail Couplers and Parts Thereof from the People's Republic of China: Initiation of Countervailing Duty Investigation, 87 FR 64440 (October 25, 2022).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny it.

On November 21, 2022, the Coalition of Freight Coupler Producers (the petitioner) timely filed a request for Commerce to postpone the preliminary CVD determination so that Commerce may review all questionnaire responses and new factual information to permit a thorough investigation and the calculation of accurate subsidy rates.²

² See Petitioner's Letter, “Request to Postpone Preliminary CVD Determination,” dated November 21, 2022. The petitioner is the Coalition of Freight Coupler Producers, the members of which are McConway & Torley LLC and the United Steel, Paper and Forestry, Rubber, Manufacturing, Energy, Allied Industrial and Service Workers International Union.

In accordance with 19 CFR 351.205(e), the petitioner has stated the reasons for requesting a postponement of the preliminary determination, and Commerce finds no compelling reason to deny the request. Therefore, in accordance with section 703(c)(1)(A) of the Act, Commerce is postponing the deadline for the preliminary determination to no later than the next business day after 130 days after the date on which this investigation was initiated, i.e., February 27, 2023.³ Pursuant to section 705(a)(1) of the Act and 19 CFR 351.210(b)(1), the deadline for the final determination of this investigation will continue to be 75 days after the date of the preliminary determination.

³ The extended date for the preliminary determination falls on February 25, 2023, which is a Saturday. Commerce's practice dictates that, when a deadline falls on a weekend or Federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: November 28, 2022.
Abdelali Elouaradia,
Deputy Assistant Secretary for Enforcement and Compliance.

[FR Doc. 2022-26242 Filed 12-1-22; 8:45 am]

BILLING CODE 3510-DS-P